FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 7, 2015.

A. Federal Reserve Bank of New York (Ivan Hurwitz, Vice President) 33 Liberty Street, New York, New York 10045-0001:

1. Basswood Capital Management, LLC, New York, New York; funds for which Basswood Partners, LLC serves as General Partner and for which Basswood Capital Management, LLC serves as Investment Manager (Basswood Opportunity Partners, LP; Basswood Financial Fund, LP; Basswood Financial Long Only Fund, LP); a fund for which Basswood Enhanced Long Short GP, LLC serves as General Partner and for which Basswood Capital Management, LLC serves as Investment Manager (Basswood Enhanced Long Short Fund, LP); funds for which Basswood Capital Management, LLC serves as Investment Manager (Basswood Opportunity Fund, Inc.; Basswood Financial Fund, Inc.; BCM Select Equity I Master, Ltd.); Basswood Capital Management, LLC, as investment adviser to a managed account; Matthew Lindenbaum; Bennett Lindenbaum; Nathan Lindenbaum and Shai Tambor as Trustees for Abigail Tambor 2012 Children's Trust; Nathan Lindenbaum; Yitzchak Jacobwitz, I. Marc Guttmann and David J. Katz as Trustees for Nathan J Lindenbaum 1995 Children Trust; Nathan Lindenbaum and Shari Lindenbaum as Members of Naftali Asher Investments LLC; Nathan Lindenbaum and Shai Tambor as Trustees for Victoria Feder & Benjamin Feder 2012 Children's Trust; Ray Lindenbaum as Trustee for Victoria & Ben Feder's 1996 Children's Trust; Marcel Lindenbaum; and Nathan Lindenbaum as Trustee for Shari A. Lindenbaum 1994 Children's Trust, all of New York, New York; to collectively acquire voting shares of Bridge Bancorp, Inc., and thereby indirectly acquire voting shares of The Bridgehampton National Bank, both in Bridgehampton, New York.

Board of Governors of the Federal Reserve System, April 17, 2015.
Margaret McCloskey Shanks,
Deputy Secretary of the Board.

[FR Doc. 2015-09340 Filed 4-21-15; 8:45 am]

BILLING CODE 6210-01-P